DEPARTMENT OF ENERGY

Federal Energy Regulatory Commission

Sunshine Act Meeting

June 5, 2002.

The following notice of meeting is published pursuant to section 3(A) of the Government in the Sunshine Act (Pub. L. 94-409), 5 U.S.C. 552B.

Agency Holding Meeting: Federal Energy Regulatory Commission.

Date and Time: June 12, 2002, 10:00 a.m.

Place: Room 2C, 888 First Street, NE Washington, DC 20426.

Status: Open.

Matters to be Considered: Agenda.

Note: —Items listed on the agenda may be deleted without furhter notice.

Contact Person for More Information: Magalie R. Salas, Secretary, Telephone (202) 208-0400, for a recording listing items stricken from or added to the meeting, call (202) 208-1627.

This is a list of matters to be considered by the commission. It does not include a listing of all papers relevant to the items on the agenda; however, all public documents may be examined in the reference and information center.

795TH—Meeting, June 12, 2002, Regular Meeting 10:00 a.m.

Administrative Agenda

A-1.

DOCKET# AD02-1,000, Agency Administrative Matters

A-2.

DOCKET# AD02-7,000, Customer Matters, Reliability, Security and Market Operations

Markets, Tariffs and Rates—Electric

E-1.

DOCKET# ER02-1575,000, American Electric Power Service Company

E-2.

DOCKET# ER02-1599,000, DTE East China, LLC

E-3.

DOCKET# ER02-1651,000, California Independent System Operator Corporation

E-4.

DOCKET# ER02-1646,000, New England Power Pool

E-5.

DOCKET# ER01-2754,000, Nevada Power Company

OTHER#S ER01-2754,001, Nevada Power Company

ER01-2754,002, Nevada Power Company

ER01-2755,000, Nevada Power Company

ER01-2755,001, Nevada Power Company

ER01-2755,002, Nevada Power Company

ER01-2758,000, Sierra Pacific Power Company and Nevada Power Company

ER01-2758,001, Sierra Pacific Power Company and Nevada Power Company

ER01-2758,002, Sierra Pacific Power Company and Nevada Power Company

ER01-2759,000, Sierra Pacific Power Company and Nevada Power Company

ER01-2759,001, Sierra Pacific Power Company and Nevada Power Company

ER01-2759,002, Sierra Pacific Power Company and Nevada Power Company

E-6.

DOCKET# ER02-92,000, Virginia Electric and Power Company

OTHER#S ER02-92,001, Virginia Electric and Power Company

E-7.

DOCKET# ER02-1637,000, California Independent System Operator Corporation

E-8.

OMITTED

E-9.

DOCKET# ER99-2854,002, Entergy Services, Inc.

OTHER#S ER95-112, 011, Entergy Services, Inc.

ER96-586,006, Entergy Services, Inc.

EL99-87,002, Entergy Services, Inc.

E-10.

DOCKET# ER01-3142,008, Midwest Independent Transmission System Operator, Inc.

E-11.

DOCKET# EL01-56,002, Niagara Mohawk Holdings, Inc. and National Grid USA

OTHER#S EC01-63,002, Niagara Mohawk Holdings, Inc. and National Grid USA

E-12.

DOCKET# QF90-176,003, Vineland Cogeneration Limited Partnership

OTHER#S QF90-176,004, Vineland Cogeneration Limited Partnership

E-13.

DOCKET# EC02-49,000, The Cleveland Electric Illuminating Company, The Toledo Edison Company, FirstEnergy Ventures Corporation and Bay Shore Power Company

OTHER# EL02-96,000, NRG Northern Ohio Generating LLC, NRG Ashtabula Generating LLC and NRG Lakeshore Generating LLC

E-14. OMITTED

E-15.

DOCKET# ER02-700,001, Florida Power & Light Company

OTHER#S ER02-700,002, Florida Power & Light Company

E-16. OMITTED

E-17.

DOCKET# ER02-766,001, Florida Power & Light Company

OTHER#S

ER02-766,002, Florida Power & Light Company

E-18.

DOCKET# ER02-925,002, Southern California Edison Company

E-19.

DOCKET# ER97-2355,005, Southern California Edison Company

OTHER#S ER98-1261,002, Southern California Edison Company

ER98-1685,001, Southern California Edison Company

E-20.

DOCKET# EL02-68,000, Southern Minnesota Municipal Power Agency

E-21.

DOCKET# EL01-76,000, The State of Michigan and The Michigan Public Service Commission v. Wolverine Supply Cooperative, Inc.

E-22.

DOCKET# EG02-119,000, Celerity Energy of Colorado, LLC

E-23.

DOCKET# ER02-994,000, Duke Energy Corporation

OTHER#S ER02-994,001, Duke Energy Corporation

ER02-994,002, Duke Energy Corporation

E-24.

DOCKET# ER02-1672,000, Western Area Power Administration

E-25.

DOCKET# EL02-3,000, PPL Electric Utilities Corporation

E-26.

DOCKET# EL02-37,000, NSTAR Electric & Gas Corporation v. ISO New England, Inc. And Parties to Market Rule 17 Section 17.3.2.2(b) Agreements

E-27.

DOCKET# EL00-83,003, NSTAR Services Company Company v. New England Power Pool

OTHER#S ER00-2811,003, ISO New England, Inc.

E-28.

DOCKET# EL00-62,043, ISO New England, Inc.

OTHER#S ER98-3853,012, New England Power Pool

ER98-3853,013, New England Power Pool

EL00-62,044, ISO New England, Inc.

E-29.

DOCKET# ER02-922,001, California Independent System Operator Corporation

E-30.

DOCKET# ER02-1266,001, Niagara Mohawk Power Corporation

E-31.

DOCKET# ER01-812,000, Geysers Power Company, LLC

OTHER#S ER01-812,001, Geysers Power Company, LLC

E-32.

DOCKET# ER02-456,000, Electric Generation L.L.C.

Miscellaneous Agenda

M-1.

RESERVED

Markets, Tariffs and Rates—Gas

G-1.

OMITTED

G-2.

DOCKET# RP02-340,000, ANR Pipeline Company

G-3.

DOCKET# RP00-391,000, Mississippi Canyon Gas Pipeline, L.L.C.

OTHER#S RP00-575,000, Mississippi Canyon Gas Pipeline, L.L.C.

G-4.

DOCKET# RP00-497,000, Viking Gas Transmission Company

OTHER# RP01-47,000, Viking Gas Transmission Company

RP01-47,001, Viking Gas Transmission Company

RP01-47,002, Viking Gas Transmission Company

G-5.

DOCKET# RP00-585,000, Vector Pipeline, L.P.

OTHER#S RP00-585,001, Vector Pipeline, L.P.

RP00-586,000, Vector Pipeline, L.P.

G-6.

DOCKET# RP02-218,000, East Tennessee Natural Gas Company

G-7. OMITTED

G-8.

DOCKET# RP00-463,002, Williston Basin Interstate Pipeline Company

OTHER#S RP00-463,003, Williston Basin Interstate Pipeline Company

RP00-600,001, Williston Basin Interstate Pipeline Company

G-9.

DOCKET# RP00-260,009, Texas Gas Transmission Corporation

G-10.

DOCKET# RP02-163,001, Florida Gas Transmission Company

OTHER#S RP02-163,002, Florida Gas Transmission Company

G-11.

DOCKET# RP93-5,040, Northwest Pipeline Corporation

G-12.

DOCKET# RP02-276,000, Iroquois Gas Transmission System, L.P.

G-13. OMITTED

Energy Projects—Hydro

H-1.

DOCKET# P-2145,047, Public Utility District No. 1 of Chelan County, Washington

OTHER#S P-943 077 Public Utility District No. 1 of Chelan County, Washington

H-2.

DOCKET# UL00-3,003, Homestake Mining Company

OTHER#S UL00-4,003, Homestake Mining Company

H-3. OMITTED

H-4.

DOCKET# P-2413,043, Georgia Power Company

Energy Projects—Certificates

C-1.

DOCKET# CP02-27,000, Florida Gas Transmission Company

C-2.

DOCKET# CP02-17,000, Texas Eastern Transmission, LP

OTHER#S CP02-45,000, Texas Eastern Transmission, LP

C-3.

DOCKET# CP02-25,000, Copiah County Storage Company

OTHER#S CP02-29,000, Copiah County Storage Company

CP02-30,000, Copiah County Storage Company

C-4.

DOCKET# CP97-169,003, Alliance Pipeline L.P.

C-5.

DOCKET# CP00-40,004, Florida Gas Transmission Company

OTHER#S CP00-40,005, Florida Gas Transmission Company

CP00-40,006, Florida Gas Transmission Company

Magalie R. Salas,
Secretary.

[FR Doc. 02-14590 Filed 6-6-02; 8:45 am]

BILLING CODE 6717-01-P